DEPARTMENT OF TRANSPORTATION

Federal Highway Administration

Environmental Impact Statement/Alternatives Analysis: Westchester and Rockland Counties, NY, Tappan Zee Bridge/Interstate-287 Corridor

AGENCIES: Federal Highway Administration (FHWA) and Federal Transit Administration (FTA), United States Department of Transportation

ACTION: Notice of intent to prepare an Alternatives Analysis (AA) and an Environmental Impact Statement (EIS) for the I-287 Corridor between Suffern, New York (Rockland County) and Port Chester, New York (Westchester County). Included within the corridor is the Tappan Zee Bridge.

SUMMARY: FHWA and FTA, in cooperation with the New York State Thruway Authority (NYSTA) and the Metro-North Railroad, a subsidiary of the Metropolitan Transportation Authority (MTA/MNR), will prepare an AA and an EIS for the I-287 Corridor in Westchester and Rockland Counties, NY, which includes the Tappan Zee Bridge, the Corridor's most important infrastructure element. The FTA and FHWA are the federal lead agencies under NEPA and the NYSTA and MTA/MNR are the project sponsors. The AA and the DEIS are being prepared in accordance with the National Environmental Policy Act of 1969 (NEPA), as amended, and implemented by the Council on Environmental Quality (CEQ) regulations (40 CFR parts 1500-1508), the FTA/FHWA Environmental Impact regulations (23 CFR part 771), and the FTA/FHWA Statewide Planning/Metropolitan Planning regulations (23 CFR part 450). This study will also comply with the requirements of the National Historic Preservation Act of 1966, as amended, section 4(f) of the 1966, U.S. Department of Transportation Act, the 1990 Clean Air Act Amendments, the Executive Order 12898 on Environmental Justice, and other applicable statutes, rules, and regulations. The EIS and the environmental review process will also satisfy requirements of the New York State Environmental Quality Review Act (SEQRA); this Notice of intent eliminates the need for a positive declaration under that statute.

The purpose for the study is to identify and evaluate alternative multimodal highway and transit proposals to address the transportation needs of the Tappan Zee Bridge/I-287 Corridor (the project). The study will also take into account the structural needs of the Tappan Zee Bridge, as well as other existing infrastructure in the Corridor. The AA will document the identification, evaluation and screening of a large number of possible actions to produce a reasonable range of alternatives that meet the proposed Project's purpose and need. The DEIS (which will incorporate the findings of the AA) will then document the evaluation of those identified alternatives in terms of their environmental impacts and other relevant factors as compared to a baseline case (i.e., the No Build alternative). A preferred alternative(s) will be identified in a Final EIS (FEIS).

FOR FURTHER INFORMATION CONTACT: Robert Arnold, Division Administrator, Federal Highway Administration, New York Division, Leo W. O'Brien Federal Building, 7th Floor, Clinton Avenue and North Pearl Street, Albany, New York, 12207. Telephone: (518) 431-4127; or Irwin B. Kessman, Director of Planning and Program Development, Federal Transit Administration, One Bowling Green, Room 429, New York, NY 10004 Telephone: (212) 668-2177; or Christopher A. Waite, Executive Project Manager, New York State Thruway Authority, 200 Southern Boulevard, Albany, NY 12209. Telephone: (518) 436-3190; or Janet M. Mainiero, Deputy Project Manager, MTA Metro-North Railroad, 347 Madison Avenue, New York, NY 10017. Telephone: (212) 340-4085.

SUPPLEMENTARY INFORMATION:

1. Scoping

FHWA and FTA invite interested individuals, organizations, and federal, state, and local agencies to provide comments on the scope of the Tappan Zee Bridge/I-287 Corridor AA/EIS. Comments should suggest alternatives that meet the Project's transportation goals and objectives and have the potential to reduce environmental impacts. Comments should also focus on specific environmental issues and other relevant factors that should be evaluated during the course of the Project.

To assist interested parties in formulating their comments, a scoping information packet has been prepared and is available upon request from the FHWA, FTA, NYSTA, or MTA/MNR representatives identified above or online at the project's Web site (www.tzbsite.com). The information packet includes the project's purpose and need, goals and objectives, a preliminary list of alternatives, and environmental areas that will be addressed during the course of the study. An outline of the public participation program is also contained in the information packet.

Three public scoping meetings will be conducted, one each in Westchester, Rockland, and Orange Counties, to solicit public comments on the scope of the AA/DEIS. Each scoping meeting will run from 4-9 p.m. and consist of an informal open house setting and two formal presentations. Formal presentations will be made at 4:30 p.m. and again at 6:30 p.m. after which comments will be received in the group forum. Those wishing to speak must sign up by 8:45 pm. A court reporter will be available to record the formal meeting and public comments. The public scoping meetings will be held in the following locations:

Westchester County Public Scoping Meeting: Tuesday, January 14, 2003, Sleepy Hollow High School, 200 North Broadway, Sleepy Hollow, NY 10591.

Rockland County Public Scoping Meeting: Wednesday, January 15, 2003, Adler Room, Palisades Mall, 1000 Palisades Center, West Nyack, NY 10994.

Orange County Public Scoping Meeting: Thursday, January 16, 2003, Orange County Community College, 115 South Street, Middletown, NY 10940.

The public comment period will be open for a minimum of 45 days following the January 16 meeting. Comments will be accepted until March 4, 2003.

The project sponsors will also conduct two governmental agency scoping meetings, one each in New York City and Albany, to solicit input and comments from local, state and federal agencies. The agency meetings will be held at the following times and locations:

January 21, 2003, 2-4 p.m., MTA/MNR Headquarters, 347 Madison Avenue, New York, NY 10017.

January 22, 2003, 1-3 p.m., New York State Thruway Authority, 200 Southern Boulevard, Albany, NY 12209.

2. Description of the Project Area and Transportation Needs

The Tappan Zee Bridge/I-287 Corridor extends from the I-287/I-87 interchange in Suffern to the I-287/I-95 interchange in Port Chester for approximately 30 miles through Rockland and Westchester Counties. The Corridor includes the lifeline 3.1 mile-long Tappan Zee Bridge crossing of the Hudson River, and encompasses a critical section of the New York State Thruway, as well as the entire Cross Westchester Expressway (CWE). The Corridor intersects all five of MNR's commuter rail lines (Port Jervis, Pascack Valley, Hudson, Harlem and New Haven). However, MNR's commuter rail lines in the Corridor are all oriented north and south and none cross the Hudson River.

The Tappan Zee Bridge opened to traffic in 1955 and carried an average of 18,000 vehicles daily. Today, approximately 135,000 vehicles cross the bridge on an average weekday, with volumes as high as 170,000 vehicles on some peak days. During the past 20 years, traffic volumes have grown significantly in the Corridor, by over 50 percent on the CWE and by more than 70 percent on the Tappan Zee Bridge. As a result, the Corridor experiences varying levels of traffic congestion throughout its 30-mile length. The steady increase in traffic demand over the years, together with only limited increases in roadway capacity and a paucity of east-west modal alternatives, have resulted in continual increases in travel time and delay. These problems are most acute in the vicinity of the Tappan Zee Bridge itself during the eastbound morning and westbound evening peak periods. This congestion is projected to worsen, detrimentally affecting mobility and the economic health and quality of life in the Corridor.

In addition to addressing the mobility needs in the Tappan Zee Bridge/I-287 Corridor, the Project will also address the structural needs of the Tappan Zee Bridge, the Corridor's most important infrastructure element.

3. Alternatives Being Considered

Based on previous studies, as well as numerous public meetings convened to discuss the matter, a preliminary list of alternatives has been developed to address the mobility and structural needs of the Corridor. The potential alternatives identified to date, which are expected to be supplemented during the public scoping process, have been organized into four broad categories as follows:

• Transportation Demand/System Management Strategies: these are generally lower cost management strategies intended to impact travel demand, choice of travel mode, or time of travel; or actions to improve the overall efficiency of the existing transportation system.

• New/Improved Transit Services: these are generally actions to improve existing transit services or add new ones that do not require the construction of major new transportation infrastructure in the Corridor.

• River Crossing Improvements: these include all of the various proposals put forward to rehabilitate or replace the existing Tappen Zee Bridge with improved roadway and transit facilities. Bridge, tunnel, and combination bridge and tunnel solutions have been suggested.

• Corridor Improvements: these are the various proposals to upgrade and/or add new transportation infrastructure elsewhere in the Corridor such as new commuter rail, light rail or guided busway.

All alternatives will include maintaining the Interstate highway link. Through a process of technical evaluation and public input, the relatively large number of alternatives developed in the early stages of the AA's program will be reduced to a smaller set considered most likely to achieve the Project's goals and objectives. The reduced set of alternatives will be evaluated in the DEIS along with the No Build alternative.

4. Probable Effects

Impacts of the final set of Tappen Zee Bridge/I-287 Corridor-wide alternatives will be evaluated in the DEIS will summarize the results of coordination with federal, state, and local agencies; present the appropriate federal, state, and local regulations and policies; inventory and compile previous studies; describe the methodology used to assess impacts; identify the affected environment; predict and analyze the construction-related (short-term) and operational (long-term) impacts (direct, indirect, and cumulative) of reasonable alternatives; and identify opportunities and measures for mitigating significant adverse impacts.

• Specific scopes for the environmental studies to be conducted for the DEIS will be established during the public and agency scoping process. The DEIS analysis will cover relevant aspects of the natural and human environment expected to be affected by each alternative.

5. FHWA/FTA Procedures

Upon completion, the AA, and subsequently the DEIS, will be available for public and agency review and comment. Public hearings will be held on the DEIS within the study area. On the basis of the AA/DEIS and the public and Agency comments, a preferred alternative will be selected and fully described in the FEIS. Following completion of the FEIS a Record of Decision (ROD) will be issued by the federal lead agencies.

(Catalog of Federal Domestic Assistance Program Number 20.205, Highway Research, Planning and Construction. The regulations implementing Executive Order 12372 regarding intergovernmental consultation on Federal programs and activities apply to this program.)

Authority: 23 U.S.C. 315; 23 CFR 771.123

Dated: December 13, 2002.
David W. Nardone,
Senior Operations Engineer, Federal Highway Administration, Albany, New York.

[FR Doc. 02-32258 Filed 12-20-02; 8:45 am]

BILLING CODE 4910-22-M